DEPARTMENT OF JUSTICE

Office of Justice Programs

[OMB Number 1121-0260]

Agency Information Collection Activities: Proposed Collection: Comments Requested

ACTON: 30-day notice of information collection under review; Police Public Contact Survey.

The Department of Justice (DOJ), Office of Justice Programs (OJP), Bureau of Justice Statistics (BJS), will be submitting the following information collection request to the Office of Management and Budget (OMB) for review and approval in accordance with the Paperwork Reduction Act of 1995. Office of Management and Budget approval is being sought for the information collection listed below. This proposed information collection was previously published in the Federal Register Volume, 76, Number 19, pages 5207, 5208, on January 28, 2011, allowing for a 60-day public comment period.

The purpose of this notice is to allow an additional 30 days for public comment until May 4, 2011. This process is conducted in accordance with 5 CFR 1320.10.

If you have comments especially on the estimated public burden or associated response time, suggestions, or need a copy of the proposed information collection instrument with instructions or additional information, please contact Christine Eith, Bureau of Justice Statistics, 810 Seventh Street, NW., Washington, DC 20531 (phone: 202-305-4559).

Written comments concerning this information collection should be sent to the Office of Information and Regulatory Affairs, Office of Management and Budget, Attn: DOJ Desk Officer. The best way to ensure your comments are received is to e-mail them to oira_submission@omb.eop.gov or fax them to 202-395-7285. All comments should reference the 8 digit OMB number for the collection or the title of the collection. If you have questions concerning the collection, please call Christine Eith at 202-305-4559 or the DOJ Desk Officer at 202-395-3176.

Written comments and suggestions from the public and affected agencies concerning the proposed collection of information should address one or more of the following four points:

—Evaluate whether the proposed collection of information is necessary for the proper performance of the function of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information

(1) Type of information collection: Reinstatement, with change, of a previously approved collection for which approval has expired.

(2) The title of the form/collection: Police Public Contact Survey.

(3) The agency form number, if any, and the applicable component of the Department sponsoring the collection: PPCS-1. Bureau of Justice Statistics, Department of Justice.

(4) Affected public who will be asked or required to respond, as well as a brief abstract: Primary: Eligible individuals must be age 16 or older. Other: None. The Police Public Contact Supplement fulfills the mandate set forth by the Violent Crime Control and Law Enforcement Act of 1994 to collect, evaluate, and publish data on the use of excessive force by law enforcement personnel. The survey will be conducted as a supplement to the National Crime Victimization Survey in all sample households for a six (6) month period.

(5) An estimate of the total number of respondents and the amount of time estimated for an average respondent to respond/reply: Approximately 15,117 respondents will be eligible for the PPCS each month from July to December 2011. Of the eligible 90,700 persons, we expect approximately 80 percent or 72,600 of the eligible persons will complete a PPCS interview. Of those persons interviewed for the PPCS, we estimate approximately 81.5 percent or 59,100 will complete only the first two (contact screener questions) survey questions. The estimated time to complete the control information on the PPCS form, read the introductory statement, and administer the first two contact screener questions to the respondents is approximately 2 minute per person. Furthermore, we estimate that the remaining 18.5 percent of the interviewed persons or 13,400 persons will report a face-to-face contact with the police during the 12 month reference period prior to the date of interview. The time to ask the detailed questions regarding the nature of the contact is estimated to take an average of 10 minutes. Respondents will be asked to respond to this survey only once during the six month period.

(6) An estimate of the total public burden (in hours) associated with the collection: The Total estimated annual burden hours are 4,193 hours.

If additional information is required contact: Lynn Murray, Department Clearance Officer, United States Department of Justice, Justice Management Division, Policy and Planning Staff, Two Constitution Square, 145 N. Street, NE., Suite 2E-808, Washington, DC 20530.

Dated: March 30, 2011.
Lynn Murray,
Department Clearance Officer, PRA, U.S. Department of Justice.

[FR Doc. 2011-7917 Filed 4-1-11; 8:45 am]

BILLING CODE 4410-18-P